DEPARTMENT OF HEALTH AND HUMAN SERVICES

National Institutes of Health

National Institute of Mental Health; Amended Notice of Meeting

Notice is hereby given of a change in the meeting of the National Institute of Mental Health Special Emphasis Panel, June 30, 2020, 11:00 a.m. to June 30, 2020, 4:00 p.m., National Institutes of Health, Neuroscience Center, 6001 Executive Blvd., Rockville, MD 20852 which was published in the Federal Register on June 2, 2020, 85 FR 33694.

This notice is to amend the title of the meeting from “Early Phase Clinical Trials—Pharmacological and Device-based Interventions,” to “Early Phase Clinical Trials for Psychosocial Interventions.” The meeting is closed to the public.

Dated: June 2, 2020.
Melanie J. Pantoja,
Program Analyst, Office of Federal Advisory Committee Policy.

[FR Doc. 2020-12258 Filed 6-5-20; 8:45 am]

BILLING CODE 4140-01-P